DEPARTMENT OF HEALTH AND HUMAN SERVICES

National Institutes of Health

Submission for OMB Review; Comment Request; Testing Successful Health Communications Surrounding Aging-Related Issues From the National Institute on Aging (NIA)

SUMMARY: Under the provisions of Section 3507(a)(1)(D) of the Paperwork Reduction Act of 1995, the National Institute on Aging, the National Institutes of Health (NIH) has submitted to the Office of Management and Budget (OMB) a request for review and approval of the information collection listed below. This proposed information collection was previously published in the Federal Register on 09-27-2010 at 08:45:00 (http://federalregister.gov/a/2010-24277, Vol. 75, No. 187, Page: 59723-59724 (2 pages); Document Citation: 75 FR 59723; Document Number: 2010-24277) and allowed 60-days for public comment. One comment was received from an organization who requested to be considered as a contractor for NIA's project. No other public comments were received. The National Institutes of Health may not conduct or sponsor, and the respondent is not required to respond to, an information collection that has been extended, revised, or implemented on or after October 1, 1995, unless it displays a currently valid OMB control number.

Proposed Collection: Title: Testing successful health communications surrounding aging-related issues from the National Institute on Aging (NIA). Type of Information Collection Request: New. Need and Use of Information Collection: This study will support NIA's mission “to communicate information about aging and advances in research on aging to the scientific community, health care providers, and the public.” The primary objectives of this study are to:

• Assess audiences' trusted/preferred sources for information, knowledge, attitudes, behaviors, and other characteristics for the planning/development of health messages and communications strategies;

• Pre-test health messages and outreach strategies while they are in developmental form to assess audience response, including their likes and dislikes.

NIA's Office of Communications and Public liaison will collect this information through formative qualitative research with its key audiences—older people, caregivers, and health professionals. Methods will include focus groups, individual interviews, self-administered questionnaires, and website surveys. The information will be used to (1) develop and revise health information resources and outreach strategies to maximize their effectiveness; (2) determine new topic areas to explore for future NIA publications; and (3) identify new ways to support the health information needs of older adults and people who serve older adults. NIA is requesting a generic clearance for a range of research data collection procedures to ensure that they successfully develop and disseminate effective health communications on aging-related issues. Frequency of Response: On occasion. Affected Public: Older people, caregivers, and health professionals (physicians and non-physicians). Type of Respondents: Older people, caregivers, and health professionals (physicians and non-physicians). The annual reporting burden is as follows: Estimated Number of Respondents: 630. Estimated Number of Responses per Respondent: 1. Average Burden Hours per Response: 0.37. Estimated Total Annual Burden Hours Requested: 234. The annualized cost to respondents is estimated at: $5,680. There are no Capital Costs to report. There are no Operating or Maintenance Costs to report.

Type of respondents | Estimated number of respondents | Estimated number of responses per respondent | Average burden hours per response | Estimated total annual burden hours requested
Older adults | 260 | 1 | .37 | 97
Non-physician health professionals and caregivers | 310 | 1 | .35 | 107
Physicians | 60 | 1 | .5 | 30
Total |  |  |  | 234

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Megan Homer, Writer/Editor, Office of Communications and Public Liaison, NIH, Building 31C Room 5C27, 9000 Rockville Pike, Bethesda, MD 20892, or call non-toll-free number 301-496-1752 or E-mail your request, including your address to: homerm@mail.nih.gov.

Comments Due Date: Comments regarding this information collection are best assured of having their full effect if received within 30-days of the date of this publication.

Dated: December 20, 2010.
Lynn Hellinger,
Director of Management, National Institutes of Health.

[FR Doc. 2010-32911 Filed 12-29-10; 8:45 am]

BILLING CODE 4140-01-P